DEPARTMENT OF TRANSPORTATION

Federal Highway Administration

Notice of Intent To Prepare an Environmental Impact Statement, Orange and Sullivan Counties, NY

AGENCY: Federal Highway Administration (FHWA), U.S. Department of Transportation (DOT).

ACTION: Notice of intent to prepare an environmental impact statement.

SUMMARY: The FHWA, in coordination with the New York State Department of Transportation (NYSDOT), is issuing this Notice of Intent (NOI) to solicit comments and advise the public, agencies, and stakeholders that an Environmental Impact Statement (EIS) will be prepared for the proposed NYS Route 17 Mobility and Access Improvements Project (the Project) located on NYS Route 17 between Exit 113, U.S. Route 209 in Sullivan County and Interstate 87 (I-87) in Orange County, New York (transportation corridor). The purpose of the Project is to address operational mobility deficiencies that exist on NYS Route 17 between U.S. Route 209 and Interstate 87 (transportation corridor). This NOI contains a summary of the information required in the Council on Environmental Quality (CEQ) regulations. This NOI should be reviewed together with the NOI Additional Project Information document, which contains important details about the proposed project and compliments the information in this NOI. Persons and agencies who may be interested in or affected by the proposed project are encouraged to comment on the information in this NOI and the NOI Additional Project Information document. All comments received in response to this NOI will be considered and any information presented herein may be revised in consideration of the comments.

DATES: Publication of this NOI initiates a 30-day public comment period. Comments on this NOI and the NOI Additional Project Information document are to be received through the methods below by May 30, 2024.

ADDRESSES: This NOI and the NOI Additional Project Information document are also available on the project website located at www.route17.dot.ny.gov/#/mobility-access. The NOI Additional Project Information document will be mailed upon request. Interested parties are invited to submit comments by any of the following methods:

• For access to the documents, go to the Project website located at www.route17.dot.ny.gov/#/mobility-access. Follow the online instructions for submitting comments.

• Mail: Federal Highway Administration, New York Division, Attention: NYS Route 17 Mobility & Access Improvements Project (PIN 8065.12), Leo W. O'Brien Federal Building, 11A Clinton Avenue, Suite 719, Albany, New York 12207.

• Mail: New York State Department of Transportation, Region 8, Attention: NYS Route 17 Mobility & Access Improvements Project (PIN 8065.12), 4 Burnett Boulevard, Poughkeepsie, NY 12603.

• Email: Rt17MobilityAccess@dot.ny.gov.

A summary of the comments received during the 30-day comment period will be included in the Draft EIS (DEIS).

FOR FURTHER INFORMATION CONTACT: Richard J. Marquis, Division Administrator, Federal Highway Administration, New York Division, Leo W. O'Brien Federal Building, 11A Clinton Avenue, Suite 719, Albany, NY 12207, Telephone: (518) 431-4127, Email: Rick.Marquis@dot.gov; or Mark Kruk, Project Manager, New York State Department of Transportation, Region 8, 4 Burnett Boulevard, Poughkeepsie, NY 12603, Telephone: (845) 431-5749, Email: Mark.Kruk@dot.ny.gov.

Interested persons can also be added to the project mailing list by sending a request to the NYS Route 17 Mobility and Access Improvements Project email address referenced above.

SUPPLEMENTARY INFORMATION: The FHWA and NYSDOT are committed to public involvement for this study. The FHWA, as Federal lead agency, and the New York State Department of Transportation (NYSDOT), as joint lead agency and project sponsor, are preparing an EIS for the NYS Route 17 Mobility and Access Improvements Project located in Orange and Sullivan Counties, New York, in accordance with the requirements of the National Environmental Policy Act (NEPA) of 1969, as amended (42 U.S.C. 4321, et seq.), 23 U.S.C. 139, CEQ regulations implementing NEPA (40 CFR 1500-1508), FHWA regulations implementing NEPA (23 CFR 771.101-771.139) and applicable Federal, State, and local governmental laws and regulations. The Project is classified as a NEPA Class I action under 23 CFR part 771 and a State Environmental Quality Review Act (SEQRA) non-Type II action under 17 NYCRR part 15. To ensure that a full range of issues are addressed in the EIS and potential issues are identified, comments and suggestions are invited from all interested parties. The NOI Additional Project Information document provides additional details on the Purpose and Need for the proposed action, alternatives considered, and expected impacts on the human environment. The FHWA requests identification of potential alternatives, information, and analyses relevant to the proposed action. The purpose of this request is to bring relevant comments, information, and analyses to the FHWA's attention, as early in the process as possible, to enable the agency to make maximum use of this information in decision making. All public comments received in response to this NOI will be considered, and changes may be made as appropriate.

The Project is informed by the findings of the 2021 Route 17 Transportation Planning and Environment Linkage (PEL) Study; the final report is available on the project website. The intent of the PEL Study was to assess and document existing conditions, identify transportation needs, and update conceptual transportation solutions developed in prior studies of the NYS Route 17 corridor that would address existing safety and operational deficiencies in the corridor, improve mobility, enhance transit infrastructure, and support future demand on the existing transportation network, in consideration of public input received.

1. Purpose and Need for the Proposed Action

NYS Route 17 is a major State highway that extends through the Southern Tier and Downstate regions of New York. Construction of the original NYS Route 17 began in 1949 and was completed in the 1960s. The majority of the transportation corridor consists of two travel lanes while short sections include a third travel lane or auxiliary lane. The typical section generally consists of 12-foot travel lanes with 4-foot left shoulders and 10-foot right shoulders. Many of the roadway sections in the transportation corridor remain as they were originally constructed.

The purpose of the Project is to address operational mobility deficiencies that exist on NYS Route 17 between US Route 209 and Interstate 87 (transportation corridor). The objectives of the Project are to address the operational and safety deficiencies that result from the insufficient acceleration and deceleration lanes at interchange ramps and short weaving sections, address geometric design elements to achieve interstate designation, and improve congestion-related travel times during peak travel periods within the transportation corridor. Detailed project need may be reviewed in the NOI Additional Project Information document available on the project website as noted in the ADDRESSES section. Comments on the Purpose and Need for the Proposed Action are welcomed during the 30-day comment period on this NOI. The Purpose and Need may be revised based on consideration of public and agency comments received during the comment period for this NOI and during the Scoping process for the DEIS.

2. Preliminary Description of the Proposed Action and Alternatives the Environmental Impact Statement Will Consider

The range of reasonable alternatives for detailed study in the EIS is currently being evaluated and will be refined in consideration of agency and public comments received during the 30-day comment period on this NOI. In addition to the No Action (No Build) Alternative, potential project alternatives include construction of operational improvements in three locations (Concept 1), construction of a peak period shoulder lane (Concept 2), and construction of a general use third lane (Concept 3). A preliminary description of these potential alternatives is provided below. Additional information on the proposed potential alternatives is included in the NOI Additional Project Information document available for review on the project website, as noted in the ADDRESSES section.

The No Build Alternative assumes no improvements would be made to the transportation corridor other than those already programmed for construction, those proposed by others, and routine maintenance.¹

¹ The NY Route 17 at Exit 122 Project (NYSDOT PIN 8065.10) is a separate action that is currently programmed for construction and lies within the limits of the NYS Route 17 Mobility and Access Improvements Project.

Concept 1 proposes the construction of operational improvements, such as auxiliary lanes and collector-distributor roads, at three locations along NYS Route 17. NYS Route 17 would remain as two mainline travel lanes in each direction. Mainline operational improvements would be constructed along NYS Route 17 in both directions from Exit 120, NYS Route 211 to Exit 122, Crystal Run Road, from Exit 122A, Fletcher Street to Exit 124, NYS Route 207, and from Exit 130, NYS Route 208 to Exit 130A, U.S. Route 6 at the eastern end of the Project in order to adequately address operational and safety needs related to the close proximity of the interchanges and the volume of entering and exiting traffic at these three locations. Interchange improvements would be included to improve the interchanges along the transportation corridor to address non-standard and non-conforming features as well as operational issues. Multimodal improvements would be assessed and considered as part of this concept.

Concept 2 proposes construction of a peak period shoulder lane in both directions of NYS Route 17 from Exit 122, Crystal Run Road, to Exit 130, NYS Route 208. Peak period shoulder lanes would provide additional mobility during periods of high traffic volume. A full-time general use third lane would be added along NYS Route 17 in both directions from Exit 120, NYS Route 211 to Exit 122, Crystal Run Road, and from Exit 130, NYS Route 208, to I-87 at the eastern end of the Project in order to adequately address operational and safety needs related to the close proximity of the interchanges and the volume of entering and exiting traffic at these two locations. Interchange improvements would be included to improve the interchanges along the transportation corridor to address non-standard and non-conforming features as well as operational issues. Multimodal improvements would be assessed and considered as part of this concept.

Concept 3 proposes construction of a continuous third general use travel lane along NYS Route 17 in each direction between Exit 120, NYS Route 211 in Wallkill to the eastern limit of the Project at I-87 in Woodbury. Interchange improvements would be included to improve the interchanges along the transportation corridor to address non-standard and non-conforming features as well as operational issues. Multimodal improvements would be assessed and considered as part of this concept.

The range of alternatives includes three Build Alternatives described above as the proposed action, and the No Build Alternative. The No Build Alternative, which assumes no improvements other than those already programmed for construction; those implemented as part of routine maintenance and to keep the roadway safe and open to traffic in the near term, and those planned by others, will be carried forward for study in the DEIS as a baseline for comparison to the Build Alternative(s).

The alternatives may be revised based on the consideration of public and agency comments. The range of reasonable alternatives to be carried forward and documented in the DEIS will be finalized after consideration of comments received during the comment period on this NOI and after conclusion of the scoping process. Comments on the range of alternatives are welcomed during the 30-day comment period on this NOI.

3. Brief Summary of Expected Impacts

The FHWA and NYSDOT have initiated data collection and agency coordination to identify the types of environmental, cultural, and socio-economic resources present in the project areas and those likely to be impacted. Potential indirect and cumulative effects of the Project will be assessed and documented in the EIS. Based on preliminary review of existing conditions within and in proximity to the transportation corridor, the implementation of the Project could result in effects to the following:

• Environmental justice populations: Minority or low-income (environmental justice) populations have been identified within the vicinity of the Project, specifically within the City of Middletown, Town of Palm Tree/Village of Kiryas Joel, Town of Woodbury, Village of Woodbury, Town of Wallkill, Village of Bloomingburg, Town of Mamakating, and Village of Wurtsboro. An assessment of the potential for disproportionately high and adverse effects on environmental justice populations will be conducted, as described in section 4 of the NOI Additional Project Information document.

• Regional and local economies: Industrial, commercial, retail, entertainment, and healthcare uses exist along the transportation corridor and serve as employment and commerce centers that are important to both the regional and local economies in the vicinity of the Project. Some of these developments include LEGOLAND, the Galleria at Crystal Run, Garnet Health Medical Center, and Woodbury Common Premium Outlets. An assessment of the Project's potential effects on regional and local economies will be conducted, as described in section 4 of the NOI Additional Project Information document.

• Wetlands and surface waters: State and Federal regulated freshwater wetlands and waterways are present in the vicinity of the Project, including but not limited to Orange Rockland Lake, Youngs Brook, Seely Brook, Black Meadow Creek, Otter Kill, Wallkill River, Shawangunk Kill, and Basher Kill. A surface water and wetland delineation will be conducted to identify all state-regulated wetlands and Waters of the U.S. within and adjacent to the transportation corridor. An assessment of the Project's potential effects on wetlands and surface waters will be conducted, as described in section 4 of the NOI Additional Project Information document.

• Endangered and threatened species: Federally and State-listed threatened and/or endangered species have the potential to occur within the vicinity of the Project. Review of the U.S. Fish and Wildlife Service's (USFWS) Information for Planning and Consultation (IPaC) system preliminarily identified the following threatened, endangered, and/or candidate species as having the potential to occur in the vicinity of the Project: Indiana bat; northern long-eared bat; tricolored bat; bog turtle; dwarf wedgemussel; monarch butterfly; and small whorled pogonia. A review of the NY Natural Heritage Program (NYNHP) database identified additional State-listed threatened and/or endangered species as having the potential to occur in the vicinity of the Project. An assessment of the Project's potential effects on threatened and endangered species will be conducted, as described in section 4 of the NOI Additional Project Information document.

• Historic properties: A preliminary review of the NYS Office of Parks, Recreation and Historic Preservation (OPRHP) Cultural Resource Information System (CRIS) identified properties within or immediately adjacent to the transportation corridor that are listed on or eligible for inclusion in the National Register of Historic Places. An Area of Potential Effects (APE) will be established for the Project and an assessment will be conducted to identify the potential for effects on historic properties, as described in section 4 of the NOI Additional Project Information document.

• Visual resources: Visually sensitive resources are present in the vicinity of the Project, including but not limited to historic properties, the Bashakill Wildlife Management Area, and Orange Heritage Trail. An assessment of the Project's potential effects on visual resources will be conducted, as described in section 4 of the NOI Additional Project Information document.

• Air quality: The Project lies within Orange and Sullivan counties. Sullivan County is classified as “attainment” for all current National Ambient Air Quality Standards (NAAQS). Orange County is classified as a maintenance area for particulate matter with a diameter smaller than or equal to 2.5 microns (PM2.5). Orange County is classified as “attainment” for all other NAAQS. An assessment of the Project's potential effects on air quality will be conducted, as described in section 4 of the NOI Additional Project Information document.

• Traffic noise: Noise sensitive receptors, as described in 23 CFR 772, are present within the vicinity of the Project and include, but are not limited to residences, schools, medical facilities, daycare centers, hotels, restaurants, and trails. An assessment of the Project's potential effects on traffic noise will be conducted, as described in section 4 of the NOI Additional Project Information document.

• Construction effects: Construction of the Project has the potential to effect noise, air quality, traffic and transportation, local and regional economies, water quality, and other environmental resources. Construction effects would be temporary and would cease with the completion of construction. An assessment of the Project's potential construction-related effects will be conducted, as described in section 4 of the NOI Additional Project Information document.

The analyses and evaluations conducted for the EIS will identify the potential for construction-related (short-term) and operational (long-term) effects (direct, indirect, and cumulative); whether the anticipated effects would be adverse; and mitigation measures for adverse effects. Evaluations under section 4(f) of the USDOT Act of 1966, 23 CFR part 774, and section 6(f) of the Land and Water Conservation Fund Act of 1965, 54 U.S.C. 200302, will be prepared, and consultation under section 106 of the National Historic Preservation Act of 1966, 54 U.S.C. 300101-307108, will be undertaken concurrently with the NEPA process. Comments on the potential impacts to be assessed in the Draft EIS are welcomed during the 30-day comment period on this NOI. The identification of impacts for analysis in the DEIS may be revised due to the consideration of public comments.

4. Anticipated Permits and Other Authorizations

Anticipated Federal and State permits and authorizations for the NYS Route 17 Mobility and Access Improvements Project include:

• U.S. Army Corps of Engineers (USACE) permits under section 404 of the Clean Water Act, 33 U.S.C. 1344, for construction in the transportation corridor and potential impacts to Waters of the United States;

• U.S. Fish and Wildlife Service (USFWS) consultation under section 7 of the Endangered Species Act, 16 U.S.C. 1536, for potential impacts to federally-listed threatened and/or endangered species;

• New York State Department of Environmental Conservation (NYSDEC) Clean Water Act section 401 WQC for potential impacts to water quality resulting from discharge into waters due to construction in the transportation corridor; as well as any other relevant New York State permits.

The USACE, USFWS, United States Environmental Protection Agency (USEPA), NYSDEC, and New York State Historic Preservation Office (SHPO) at New York State Office of Parks, Recreation, and Historic Preservation (NYSOPRHP) were invited to participate as Cooperating Agencies for the Project.

Invited Participating Agencies include New York State Department of Agriculture and Markets (NYS AGM), New York Metropolitan Transportation Council (NYMTC), New York State Thruway Authority (NYSTA), Orange County Department of Planning, Sullivan County Division of Planning & Community Development, Town of Blooming Grove, Town of Chester, Town of Goshen, Town of Mamakating, Town of Monroe, Town of Palm Tree & Village of Kiryas Joel, Town of Wallkill, Town of Woodbury, Village of Bloomingburg, Village of Chester, Village of Goshen, Village of Monroe, Village of South Blooming Grove, Village of Woodbury, City of Middletown, Delaware Nation, Delaware Tribe, Saint Regis Mohawk Tribe, and Stockbridge-Munsee Community Band of Mohican Indians.

Coordination with Cooperating and Participating Agencies has begun as part of the pre-NOI scoping and will continue throughout the environmental review process. The draft Project Purpose and Need and draft Permitting Timetable were distributed to the Cooperating Agencies on February 16, 2024, for review and concurrence. The Joint Agency Coordination Plan and Public Involvement Plan were distributed to the Cooperating Agencies for review on March 14, 2024. Refer to the NOI Additional Project Information document for additional information on coordination with Cooperating and Participating Agencies.

5. Schedule for the Decision-Making Process

The Project schedule will be established as part of the requirements of the environmental review process under 23 U.S.C. 139 and will comply with 40 CFR 1501.10(b)(2), which requires that environmental reviews and authorization decisions for major projects occur within 2 years (from the date of publication of the NOI to the date of issuance of the Record of Decision [ROD]), and all necessary authorizations be issued in 90 days from the ROD, in cooperation with the FHWA. A current draft of the Joint Agency Coordination Plan and Public Involvement Plan and project schedule are included in the NOI Additional Project Information document, which is available for review on the project website as noted in the ADDRESSES section.

The anticipated project schedule is outlined below:

• Public Scoping Meeting (May 2024)

• Project Scoping Report Publication (August 2024)

• Notice of Availability of the Draft EIS (DEIS) (August 2025)

• Public Hearing (September 2025)

• 45-day DEIS Comment Period (begins with the Notice of Availability of the DEIS) (August-October 2025)

• Submit Final EIS (FEIS) to FHWA (December 2025)

• Publish Single FEIS and ROD (February 2026)

• Issue all Project Permits and Authorization Decisions (May 2026)

6. Description of the Public Scoping Process, Including Scoping Meetings

Scoping is an early and open process to determine the scope of issues for analysis in an EIS, including identifying the significant issues and eliminating from further study non-significant issues. During the scoping process, FHWA and NYSDOT will determine the range of reasonable alternatives to be studied in the Draft EIS for the Project, in consideration of public and agency input received. Persons and agencies who may be interested in or affected by the proposed project are encouraged to comment on the information in this NOI and the NOI Additional Project Information document during the 30-day comment period. A formal public scoping meeting will be held after publication of the NOI. Advanced notice of the date, time, and location of the public scoping meeting will be provided to the public through the Project website and in public notices published in local newspapers, as described in Attachment A of the NOI Additional Project Information document. The intent of this meeting is to provide information and gather input on the Project during this early phase of the decision-making process. Interested parties will have the opportunity to submit formal comments at the meeting.

As described in the ADDRESSES section, the NOI Additional Project Information document is located on the project website. The NOI Additional Project Information document includes the complete Draft Purpose and Need for the Proposed Action; Extent of Analysis for Resources; Identification of Cooperating and Participating Agencies; Permitting Timetable; Joint Agency Coordination Plan and Public Involvement Plan; Environmental Justice Public Engagement Plan; and Project Maps/Figures.

7. Request for Identification of Potential Alternatives, Information, and Analyses Relevant to the Proposed Action

With this Notice, the FHWA and NYSDOT request and encourage State, Tribal, and local government agencies, and the public, to review the NOI and NOI Additional Project Information document and submit comments. Specifically, agencies and the public are asked to identify and submit potential alternatives for consideration and information, such as anticipated significant issues or environmental impacts and analyses relevant to the proposed action, for consideration by the Lead and Cooperating Agencies in developing the Draft EIS. Any information presented herein, including the Purpose and Need, proposed potential alternatives and identification of impacts by be revised after consideration of the comments. The purpose of this request is to bring relevant comments, information, and analyses to the attention of FHWA as early in the process as possible to enable FHWA to make maximum use of this information in decision making. Comments must be received by May 30, 2024. Comments or questions concerning this proposed action, including comments relative to potential alternatives, information and analyses, should be directed to the FHWA and NYSDOT at the addresses provided in the FOR FURTHER INFORMATION CONTACT section of this notice.

Authority: 42 U.S.C. 4321 et seq.; 23 U.S.C. 139; 23 CFR part 771.

Richard J. Marquis,
Division Administrator, Albany, NY.

[FR Doc. 2024-09293 Filed 4-29-24; 8:45 am]

BILLING CODE 4910-22-P